UNITED STATES INSTITUTE OF PEACE

Notice of Meeting

AGENCY: United States Institute of Peace.

Date/Time: Monday, July 29, 2013 (9:30 a.m.-3:00 p.m.)

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: July 29, 2013 Board Meeting; Approval of Minutes of the One Hundred Forty-Seventh Meeting (April 19, 2013) of the Board of Directors; Chairman's Report; President's Report; Status Reports; Strategic Plan; Board Executive Session; Other General Issues.

Contact: Tessie F. Higgs, Executive Office, Telephone: (202) 429-3836.

Dated: July 12, 2013.
Michael Graham,
Senior Vice President for Management, United States Institute of Peace.

[FR Doc. 2013-17310 Filed 7-19-13; 8:45 am]

BILLING CODE 6820-AR-M